DEPARTMENT OF LABOR

Employment and Training Administration

[TA-W-58,773]

Perfection Tool and Mold Corp Dayton, OH; Notice of Termination of Investigation

Pursuant to section 221 of the Trade Act of 1974, as amended, an investigation was initiated on February 1, 2006 in response to a worker petition filed by a company official on behalf of workers at Perfection Tool & Mold Corp., Dayton, Ohio.

The petitioner has requested that the petition be withdrawn. Consequently, the investigation has been terminated.

Signed at Washington, DC, this 1st day of March 2006.
Linda G. Poole,
Certifying Officer, Division of Trade Adjustment Assistance.

[FR Doc. E6-4129 Filed 3-21-06; 8:45 am]

BILLING CODE 4510-30-P